DEPARTMENT OF HEALTH AND HUMAN SERVICES

Substance Abuse and Mental Health Services Administration

Office for Women's Services; Notice of Conference Call Meeting

Pursuant to Public Law 92-463, notice is hereby given of a meeting of the Advisory Committee for Women's Services of the Substance Abuse and Mental Health Services Administration (SAMHSA) in June 2004.

The meeting of the Advisory Committee for Women's Services will include discussion around the activities of the Substance Abuse and Mental Health Services Administration involving substance abuse and mental health disorders affecting women, training of primary health care providers on the integration of primary care and mental health and substance abuse disorders. A summary of the meeting and/or a roster of committee members may be obtained from: Nancy P. Brady, Executive Secretary, Advisory Committee for Women's Services, Office for Women's Services, SAMHSA, Parklawn Building, Room 12C-26, 5600 Fishers Lane, Rockville, Maryland 20857, telephone: (301) 443-1135.

Attendance by the public and public comments are welcome. Please communicate with the individual listed as contact below to make arrangements to comment or to request special accommodations for persons with disabilities.

Substantive information may be obtained from the contact whose name and telephone number is listed below.

Committee Name: Advisory Committee for Women's Services.

Meeting Date/Time: Open: June 8, 2004, conference call, 12 p.m.-1:30 p.m.

Place: 5600 Fishers Lane, Room 10-85, Rockville, MD 20857.

Contact: Nancy P. Brady, Executive Secretary, 5600 Fishers Lane, Parklawn Building, Room 12C-26,Rockville, MD 20857. Telephone: (301) 443-1135; fax: (301) 594-6159 and e-mail: nbrady@samhsa.gov.

Dated: May 19, 2004.
Toian Vaughn,
Committee Management Officer, Substance Abuse and Mental Health Services Administration.

[FR Doc. 04-12124 Filed 5-27-04; 8:45 am]

BILLING CODE 4162-20-P